NATIONAL SCIENCE FOUNDATION

Proposal Review Panel for Materials Research; Notice of Meeting

In accordance with the Federal Advisory Committee Act (Pub. L. 92-463, as amended), the National Science Foundation (NSF) announces the following meeting:

Name and Committee Code: Northwestern University MRSEC Virtual Site Visit (1203).

Date and Time:

April 15, 2021; 10:00 a.m.-6:00 p.m.

April 16, 2021; 10:00 a.m.-5:30 p.m.

Place: NSF, 2415 Eisenhower Avenue, Alexandria, VA 22314 (Virtual).

Type of Meeting: Part-Open.

Contact Person: Dr. Daniele Finotello, Program Director, Division of Materials Research, National Science Foundation, 2415 Eisenhower Avenue, Room W 9216, Alexandria, VA 22314; Telephone: (703) 292-4432.

Purpose of Meeting: Virtual site visit to provide an evaluation of the progress of the projects at the host site for the Division of Materials Research at the National Science Foundation.

Agenda

April 15, 2021

10:00 a.m.-10:10 a.m. Welcome

10:10 a.m.-11:00 a.m. Directors Overview

11:00 a.m.-11:10 a.m. Discussion

11:10 a.m.-11:35 a.m. IRG-1 Presentation

11:35 a.m.-11:45 a.m. IRG-1 Discussion

11:45 a.m.-11:55 a.m. Break

11:55 a.m.-12:20 p.m. IRG-2 Presentation

12:20 p.m.-12:30 p.m. IRG-2 Discussion

12:30 p.m.-12:40 p.m. iSuperSeeds Accomplishments

12:40 p.m.-12:45 p.m. iSuperSeeds Discussion

12:45 p.m.-01:50 p.m. Executive Session/Lunch (CLOSED)

01:50 p.m.-02:15 p.m. Education and Outreach, Diversity Plan

02:15 p.m.-02:25 p.m. Education and Outreach, Diversity Plan Discussion

02:25 p.m.-02:45 p.m. Industrial Outreach and Other Collaborations; Shared Facilities

02:45 p.m.-02:55 p.m. Industrial Outreach and Other Collaborations; Shared Facilities Discussion

02:55 p.m.-03:10 p.m. Executive Session Break (CLOSED)

03:10 p.m.-04:20 p.m. Meeting with Trainees, Poster Session

04:20 p.m.-05:30 p.m. Executive Session: Prepare Overnight Questions (CLOSED)

05:30 p.m.-06:00 p.m. Meeting with MRSEC Director and Team Present Questions

April 16, 2021

10:00 a.m.-10:15 a.m. Executive Session (CLOSED)

10:15 a.m.-11:15 a.m. MRSEC Response: Director plus Executive Team

11:15 a.m.-11:30 a.m. Executive Session Break

11:30 a.m.-11:50 a.m. Meeting with University Administrators (CLOSED)

12:00 p.m.-05:00 p.m. NSF + Site Visit Team-Report Writing (CLOSED)

05:00 p.m.-05:30 p.m. BSF Debriefing with MRSEC Director and Executive Team

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: October 13, 2020.
Crystal Robinson,
Committee Management Officer.

[FR Doc. 2020-22982 Filed 10-16-20; 8:45 am]

BILLING CODE 7555-01-P